ENVIRONMENTAL PROTECTION AGENCY

[EPA-HQ-OPPT-2005-0554; FRL-7765-9]

Pollution Prevention Grants; Notice of Availability

AGENCY: Environmental Protection Agency (EPA).

ACTION: Notice

.

SUMMARY: EPA is announcing the availability of grant funds to States, Tribes, and Intertribal Consortia. Under the authority of the Pollution Prevention Act of 1990, EPA will award Pollution Prevention (P2) Grants in fiscal year (FY) 2006 for prevention activities during FY 2006-2007. These grants are targeted for State and Tribal technical assistance programs that address the reduction or elimination of pollution by businesses across all environmental media: Air, land, and water. The total amount of funding available for award in FY 2006 is approximately $4.1 million. The maximum funding level per project is $150,000. You may access the full text of the grant announcement at http://www.epa.gov/oppt/p2home/grants/ppis/ppis.htm.

Dates: Proposals must be received on or before May 18, 2006.

FOR FURTHER INFORMATION CONTACT: Michele Amhaz, Pollution Prevention Division (7409M), Office of Pollution Prevention and Toxics, Environmental Protection Agency, 1200 Pennsylvania Ave., NW., Washington, DC 20460-0001; telephone number: (202) 564-8857; fax number: (202) 564-8899; e-mail address: amhaz.michele@epa.gov.

SUPPLEMENTARY INFORMATION:

I. General Information

A. Does this Action Apply to Me?

This action is directed to States, State entities (colleges and universities), Tribes, and Intertribal Consortia. This notice may, however, be of interest to local governments, private universities, private nonprofit entities, private businesses, and individuals who are not eligible for this grant program. If you have any questions regarding the applicability of this action to a particular entity, consult the person listed under FOR FURTHER INFORMATION CONTACT.

B. How Can I Get Copies of this Document and Other Related Information?

1. Docket. EPA has established a docket for this action under docket identification (ID) number EPA-HQ-OPPT-2005-0554. Publicly available docket materials are available electronically at http://www.regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may obtain electronic copies of this document through the EPA Internet under the “Federal Register” listings at http://www.epa.gov/fedrgstr/.

You may access copies of the grant announcement at http://www.epa.gov/oppt/p2home/grants/ppis/ppis.htm.

II. Overview

The following listing provides certain key information concerning the proposal opportunity.

• Federal agency name: Environmental Protection Agency.

• Funding opportunity title: Pollution Prevention Grants Program.

• Funding opportunity number: EPA-OPPT-06-002.

• Announcement type: The initial announcement of a funding opportunity.

• Catalog of Federal Domestic Assistance (CFDA) number: 66.708.

• Dates: Proposals must be received on or before May 18, 2006.

For detailed information concerning the grant announcement refer to the Agency website at http://www.epa.gov/oppt/p2home/grants/ppis/ppis.htm. The full text of the grant announcement includes specific information regarding the: Purpose and scope; activities to be funded; award information; eligibility requirements; application and submission information; award review information; and regional agency contacts if applicable.

III. Submission to Congress and the Comptroller General

Grant solicitations containing binding legal requirements are considered rules for the purpose of the Congressional Review Act (CRA) (5 U.S.C. 801et seq.). The CRA generally provides that before a rule may take effect, the agency promulgating the rule must submit a rule report, which includes a copy of the rule, to each House of the Congress and to the Comptroller General of the United States. EPA will submit a report containing this grant solicitation and other required information to the U.S. Senate, the U.S. House of Representatives, and the Comptroller General of the United States prior to publication in the Federal Register. This grant solicitation does not qualify as a “major rule” as defined by 5 U.S.C. 804(2).

List of Subjects

Environmental protection, Grants, Pollution prevention.

Dated: March 26, 2006.
Susan B. Hazen,
Acting Assistant Administrator, Office of Prevention, Pesticides and Toxic Substances.

[FR Doc. E6-4762 Filed 3-31-06; 8:45 am]

BILLING CODE 6560-50-S